DEPARTMENT OF HEALTH AND HUMAN SERVICES

Centers for Disease Control and Prevention

[30Day-19-0134]

Agency Forms Undergoing Paperwork Reduction Act Review

In accordance with the Paperwork Reduction Act of 1995, the Centers for Disease Control and Prevention (CDC) has submitted the information collection request titled Foreign Quarantine Regulations (42 CFR 71) to the Office of Management and Budget (OMB) for review and approval. CDC previously published a “Proposed Data Collection Submitted for Public Comment and Recommendations” notice on September 7, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Foreign Quarantine Regulations (42 CFR 71) (OMB Control No. 0920-0134) (Exp 5/31/2019)—National Center for Emerging and Zoonotic Infectious Diseases (NCEZID), Centers for Disease Control and Prevention (CDC).

Background and Brief Description

Section 361 of the Public Health Service Act (PHSA) (42 U.S.C. 264) authorizes the Secretary of Health and Human Services to make and enforce regulations necessary to prevent the introduction, transmission or spread of communicable diseases from foreign countries into the United States. Statute and the existing regulations governing foreign quarantine activities (42 CFR 71) authorize quarantine officers and other personnel to inspect and undertake necessary control measures with respect to conveyances, persons, and shipments of animals and etiologic agents in order to protect the public's health. Other inspection agencies, such as Customs and Border Protection (CBP), assist quarantine officers in public health screening of persons, pets, and other importations of public health importance and make referrals to quarantine station staff when indicated. These practices and procedures ensure protection against the introduction and spread of communicable diseases into and within the United States with a minimum of recordkeeping and reporting procedures, as well as a minimum of interference with trade and travel.

U.S. Quarantine Stations are located at 20 ports of entry and land-border crossings where international travelers arrive. The jurisdiction of each station includes air, maritime, and/or land-border ports of entry. Quarantine Station staff work in partnership with international, federal, state, and local agencies and organizations to fulfill their mission to reduce morbidity and mortality among globally mobile populations. This work is performed to prevent the introduction, transmission, and spread of communicable diseases from foreign countries into the United States or from one State or possession to another State or possession. When an illness suggestive of a communicable disease is reported by conveyance operators or port partners (e.g. Customs and Border Protection), Quarantine Officers respond to carry out an onsite public health assessment and collect data from the individual. This response may occur jointly with port partners. The collection of comprehensive, pertinent public health information during these responses enables Quarantine Officers to make an accurate public health assessment and identify appropriate next steps. For this reason, quarantine station staff need to systematically interview ill travelers and collect relevant health and epidemiologic information.

CDC is making a number of changes and adjustments to this information collection. The changes are as follows:

• CDC is merging this information collection with another, 0920-0821 Illness Response Forms: Airline, Maritime, and Land/Border Crossing.

• CDC is disaggregating the information collection 42 CFR 71.21(a) report of illness or death from ships so that the influenza like illness (ILI) report, which is voluntary, is separate from the required report of ill person or death.

• CDC is removing the information collection pertaining to Partner Government Agency Message Sets, because CDC will not collect information using these tools.

• CDC is removing the acute gastroenteritis reports from ships and removal of medical logs information collection from this information collection request, because CDC's Vessel Sanitation Program will submit a separate information collection request for these tools.

CDC is requesting the following adjustments:

• As described above, CDC is requesting a separation of the maritime (ILI) and other maritime illness or death reports. CDC is also requesting an increase in the total number of maritime reports of illness of each type, ILI and others.

• For fall 2018, CDC is considering a policy change related to requirements for rabies vaccination documentation for dogs coming from certain countries; therefore, CDC is providing estimates of burden and respondents related to importation of dogs into the United States

• Revised estimates of under 42 CFR 71.55, 42 CFR 71.32 Dead Bodies—Death certificates

• Revised estimate of the number of requests for exemptions for importation of African rodents

Respondents for this information collection request are any pilot in command of an aircraft or maritime vessel operator with an ill person meeting certain criteria, or death aboard; any individual who is subject to federal quarantine or isolation; any ill traveler who is reported by the airlines, Customs and Border Protection, or EMS to CDC or the local public health authority that meets the definition of ill person; and any importer or filer who seeks to bring certain animals, animal products, or other CDC-regulated item into the United States.

For all except one of these collections, there are no costs to respondents other than their time. Examinations of imported animals is only required if the pet is ill on arrival or if it has died during transport. These exams are not routine. Depending on the time of arrival, the initial exam fee may be between $100 and $200. Rabies testing on a dog that dies may be between $50 and $100. The expected number of ill or dead dogs arriving into the United States for which CDC may require an examination is estimated at less than 30 per year. The total annualized burden hours is estimated to be 268,493.

Estimated Annualized Burden Hours
Type of respondent | Regulatory provision or form name | Number of respondents | Number of responses per respondent | Average burden per response (in hours)
Maritime Vessel Operator | 42 CFR 71.21(a) report of illness or death from ships - Maritime Conveyance Illness or Death Investigation Form sections 1-4 | 500 | 1 | 5/60
Maritime Vessel Operator | 42 CFR 71.21(a) report of illness or death from ships - Maritime Conveyance Illness or Death Investigation Form section 5 | 100 | 1 | 2/60
Maritime Vessel Operator | Cumulative Influenza/Influenza-Like Illness (ILI) | 3000 | 1 | 2/60
Pilot in command | 42 CFR 71.21 (b) Death/Illness reports from aircrafts | 1,700 | 1 | 2/60
Traveler | Airline Travel Illness or Death Investigation Form | 1,700 | 1 | 5/60
Traveler | Land Travel Illness or Death Investigation Form | 100 | 1 | 5/60
Isolated or Quarantined individuals | 42 CFR 71.33 Report by persons in isolation or surveillance | 11 | 1 | 3/60
Maritime Vessel Operator | 42 CFR 71.35 Report of death/illness during stay in port | 5 | 1 | 30/60
Importer | 42 CFR 71.51(c)(1), (d)—Valid Rabies Vaccination Certificates | 113,500 | 1 | 15/60
Importer | CDC Form 75.37 Notice To Owners And Importers Of Dogs: Requirement for Dog Confinement | 14 | 1 | 10/60
Importer | 42 CFR 71.51(c)(i), (ii), and (iii) exemption criteria for the importation of a dog without a rabies vaccination certificate | 958,000 | 1 | 15/60
Importer | 42 CFR 71.51(c)(2), (d) Application For Permission To Import A Dog Inadequately Against Rabies | 50 | 1 | 45/60
Importer | 42 CFR 71.51(b) (3) Dogs/cats: Record of sickness or deaths | 20 | 1 | 15/60
Importer | 42 CFR 71.52(d) Turtle Importation Permits | 5 | 1 | 30/60
Importers | 42 CFR 71.55 Dead Bodies, 42 CFR 71.32—Death certificates | 20 | 1 | 1
Importer | 42 CFR 71.56 (a)(2) African Rodents -Request for exemption | 25 | 1 | 1
Importer | 42 CFR 71.56(a)(iii) Appeal | 2 | 1 | 1
Importer | 42 CFR 71.32 Statements or documentation of non-infectiousness | 2000 | 1 | 5/60

Jeffrey M. Zirger,
Acting Lead, Information Collection Review Office, Office of Scientific Integrity, Office of Science, Centers for Disease Control and Prevention.

[FR Doc. 2018-25751 Filed 11-26-18; 8:45 am]

BILLING CODE 4163-18-P